NUCLEAR REGULATORY COMMISSION

[NRC-2009-0043]

Proposed Standard Review Plan Section 9.5.1.2 on Risk-Informed, Performance-Based Fire Protection Program

AGENCY: Nuclear Regulatory Commission (NRC).

ACTION: Solicitation of public comment.

SUMMARY: The NRC is requesting public comment on NUREG-0800, “Standard Review Plan for the Review of Safety Analysis Reports for Nuclear Power Plants,” Section 9.5.1.2 on staff guidance on Risk-Informed (RI), Performance-Based (PB) Fire Protection Program (FPP) for Operating Nuclear Power Plants (Agencywide Documents Access and Management System (ADAMS) Accession No. ML090050052). This guidance is being issued as an alternate to the existing guidance currently provided under Standard Review Plan (SRP) section 9.5.1. This is stand alone guidance and is provided for the benefit of licensees of existing plants who choose to adopt RI/PB FPP that meets the requirements of National Fire Protection Association (NFPA) Standard 805.

The NRC staff issues notices to facilitate timely implementation of the current staff guidance and to facilitate activities associated with the review of amendment applications for transitioning to RI/PB FPPs. The NRC staff will also incorporate the approved SRP section 9.5.1.2 into the next revisions of RG 1.205 and any related guidance documents. This proposed guidance is applicable only to currently operating nuclear reactor licensees. Because of the introduction of the now proposed SRP section 9.5.1.2, the current SRP section 9.5.1 will be renumbered to read 9.5.1.1. This SRP is not endorsing NFPA 805, since that standard is already a part of the 10 CFR 50.48(c) rule. In addition, this SRP does not directly endorse the guidance document issued by the industry (NEI 04-02, “Guidance for Implementing a Risk-Informed, Performance-Based Fire Protection Program under 10 CFR 50.48(c),” Rev. 2) for plants transitioning to an NFPA 805 FPP. RG 1.205 provides the staff's positions with respect to NEI 04-02.

DATES: Comments must be filed no later than 60 days from the date of publication of this notice in the Federal Register. Comments received after this date will be considered, if it is practical to do so, but the Commission is able to ensure consideration only for comments received on or before this date.

ADDRESSES: Comments may be submitted to: Chief, Rulemaking, Directives, and Editing Branch, Mail Stop: TWB-05-B01M, Office of Administration, U.S. Nuclear Regulatory Commission, Washington, DC 20555-0001.

The NRC maintains ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resources@nrc.gov.

FOR FURTHER INFORMATION CONTACT: Mr. Alex R. Klein, Chief, Fire Protection Branch, Division of Risk Assessment, Office of the Nuclear Reactor Regulation, U.S. Nuclear Regulatory Commission, Washington, DC 20555-0001; telephone 301-415-2822 or e-mail at Alex.Klein@nrc.gov.

SUPPLEMENTARY INFORMATION: This SRP, NUREG-0800, has been prepared to establish criteria that the Office of Nuclear Reactor Regulation staff use to evaluate license amendment requests if the application meets the NRC's regulations. The SRP is not a substitute for the NRC's regulations, and compliance with it is not required. However, applicants are required to identify differences in design features, analytical techniques, and procedural measures proposed for a facility and corresponding SRP acceptance criteria, and evaluate how the proposed alternatives to the acceptance criteria provide an acceptable method of complying with the NRC's regulations.

Title 10 of the Code of Federal Regulations, Section 50.48, “Fire protection” (10 CFR 50.48) provides the NRC requirements for fire protection for nuclear power plants (NPPs). Under 10 CFR 50.48(c), a licensee of an existing plant may choose to adopt a RI/PB FPP that meets the requirements of NFPA 805, “Performance-Based Standard for Fire Protection for Light Water Reactor Electric Generating Plants,” 2001 edition, as incorporated therein, as an alternative to meeting the requirements of 10 CFR 50.48(b) for plants licensed to operate before January 1, 1979, or the approved FPP for existing plants licensed to operate after January 1, 1979. The agency posts its issued staff guidance in the agency external Web page (http://www.nrc.gov/reading-rm/doc-collections/nuregs/staff/sr0800/ch9/).

The NRC staff is issuing this notice to solicit public comments on the proposed SRP Section 9.5.1.2 and is being issued for the first time. After the NRC staff considers any public comments, it will make a determination regarding the proposed SRP Section 9.5.1.2.

Dated at Rockville, Maryland, this 29th day of January 2009.
For the Nuclear Regulatory Commission.
William D. Reckley,
Chief, Rulemaking and Guidance Development Branch, Division of New Reactor Licensing, Office of New Reactors.

[FR Doc. E9-2456 Filed 2-4-09; 8:45 am]

BILLING CODE 7590-01-P